DEPARTMENT OF ENERGY

Federal Energy Regulatory Commission

Combined Notice of Filings # 1

April 18, 2007.

Take notice that the Commission received the following electric corporate filings:

Docket Numbers: EC07-79-000; ER01-2398-015.

Applicants: Liberty Electric Power, LLC.

Description: Liberty Electric Power, LLC submits an application for authorization for disposition of jurisdictional facilities, notice of change in status and request for expedited action.

Filed Date: 04/13/2007.

Accession Number: 20070418-0039

Comment Date: 5 p.m. Eastern Time on Friday, May 04, 2007.

Take notice that the Commission received the following electric rate filings:

Docket Numbers: ER99-3822-010; ER06-1106-002; ER06-1107-002.

Applicants: Casco Bay Energy Company, LLC; LSP Arlington Valley, LLC; LSOp Mohave, LLC.

Description: Casco Bay Energy Company, LLC et al. submit an updated triennial market power analysis.

Filed Date: 04/12/2007.

Accession Number: 20070416-0330

Comment Date: 5 p.m. Eastern Time on Thursday, May 03, 2007.

Docket Numbers: ER03-1283-009

Applicants: Vineland Energy, LLC.

Description: Vineland Energy, LLC submits its triennial updated market analysis.

Filed Date: 04/11/2007.

Accession Number: 20070413-0156

Comment Date: 5 p.m. Eastern Time on Wednesday, May 02, 2007.

Docket Numbers: ER07-501-001; ER06-739-005; ER06-738-005; ER03-983-004.

Applicants: Birchwood Power Partners, L.P.; Cogen Technologies Linden Venture, L.P.; East Coast Power Linden Holding, L.L.C.; Fox Energy Company, LLC.

Description: Cogen Technologies Linden Venture, LP et al. submit a change in status relating to an indirect acquisition of several local gas distribution companies.

Filed Date: 04/12/2007.

Accession Number: 20070416-0331

Comment Date: 5 p.m. Eastern Time on Thursday, May 03, 2007.

Docket Numbers: ER07-608-002

Applicants: Gerdau Ameristeel Energy, Inc.

Description: Gerdau Ameristeel Energy, Inc submit an amendment to its filing.

Filed Date: 04/03/2007.

Accession Number: 20070403-5021

Comment Date: 5 p.m. Eastern Time on Tuesday, April 24, 2007.

Docket Numbers: ER07-632-002

Applicants: PJM Interconnection, L.L.C.

Description: PJM Interconnection, LLC on behalf of Neptune Regional Transmission, LLC submits amendments to Schedule 14 of PJM's Open Accession Transmission Tariff filed on 3/16/07.

Filed Date: 04/13/2007.

Accession Number: 20070418-0008

Comment Date: 5 p.m. Eastern Time on Thursday, April 26, 2007.

Docket Numbers: ER07-698-001

Applicants: Pacific Gas and Electric Company.

Description: Pacific Gas and Electric Co submits an errata to its special facilities and interconnection agreement executed with Trans Bay Cable LLC.

Filed Date: 04/11/2007.

Accession Number: 20070413-0153

Comment Date: 5 p.m. Eastern Time on Wednesday, May 02, 2007.

Docket Numbers: ER07-736-000

Applicants: Southwest Power Pool, Inc.

Description: Southwest Power Pool, Inc submits an executed service agreement for Firm Point-to-Point Transmission Service with the City of Independence, Missouri.

Filed Date: 04/11/2007.

Accession Number: 20070413-0154

Comment Date: 5 p.m. Eastern Time on Wednesday, May 02, 2007.

Docket Numbers: ER07-737-000

Applicants: PacifiCorp.

Description: PacifiCorp submits the Facilities Agreement and Interconnection Agreement with Kaysville City Corporation.

Filed Date: 04/11/2007.

Accession Number: 20070413-0155

Comment Date: 5 p.m. Eastern Time on Wednesday, May 02, 2007.

Docket Numbers: ER07-743-000

Applicants: Entergy Services Inc.

Description: Entergy Operating Companies submits copies of the 3/5/07 First Revised Long-Term Firm Point-to-Point Transmission Service Agreement with Plum Point Energy Associates, LLC.

Filed Date: 04/12/2007.

Accession Number: 20070413-0149

Comment Date: 5 p.m. Eastern Time on Thursday, May 03, 2007.

Docket Numbers: ER07-744-000

Applicants: Northern Maine Independent System Administrator, Inc.

Description: Northern Maine Independence System Administrator, Inc submits revisions to FERC Electric Tariff, Original Volume 1.

Filed Date: 04/13/2007.

Accession Number: 20070416-0338

Comment Date: 5 p.m. Eastern Time on Friday, May 04, 2007.

Docket Numbers: ER07-745-000

Applicants: Puget Sound Energy, Inc.

Description: Puget Sound Energy, Inc submits its compliance filing to incorporate by reference standards promulgated by the Wholesale Electric Quadrant of the North American Energy Standards Board etc, Order 676-A.

Filed Date: 04/13/2007.

Accession Number: 20070416-0334

Comment Date: 5 p.m. Eastern Time on Friday, May 04, 2007.

Docket Numbers: ER07-746-000

Applicants: Tenaska Alabama II Partners, L.P.

Description: Tenaska Alabama II Partners, LP submits a Rate Schedule FERC 1 under which it specifies its revenue requirement for providing Reactive Supply and Voltage Control from Generation Sources Service etc.

Filed Date: 04/13/2007.

Accession Number: 20070416-0335

Comment Date: 5 p.m. Eastern Time on Friday, May 04, 2007.

Docket Numbers: ER07-747-000

Applicants: Central Hudson Gas & Electric Corporation.

Description: Central Hudson Gas & Electric Corp submits First Revised Substitute Service Agreement 261 for Danskammer Generating Station.

Filed Date: 04/13/2007.

Accession Number: 20070418-0003

Comment Date: 5 p.m. Eastern Time on Friday, May 04, 2007.

Docket Numbers: ER07-748-000

Applicants: New York Independent System Operator, Inc.

Description: New York Independent System Operator, Inc submits revisions to its Market Administration and Control Area Services Tariff and its Open Access Transmission Tariff, with an effective date of 5/13/07.

Filed Date: 04/13/2007.

Accession Number: 20070417-0101

Comment Date: 5 p.m. Eastern Time on Friday, May 04, 2007.

Docket Numbers: ER07-749-000

Applicants: Dyon, LLC.

Description: Dyon, LLC submits a Petition for acceptance of Initial Rate Schedule FERC 1, waivers and blanket authority by Dyon, LLC.

Filed Date: 04/13/2007.

Accession Number: 20070418-0004

Comment Date: 5 p.m. Eastern Time on Friday, May 04, 2007.

Docket Numbers: ER07-750-000

Applicants: American Electric Power System Corporation.

Description: American Electric Power Service Corp, as agent for AEP Texas North Co, submits executed amendments to the Interconnection Agreement with West Texas Utilities Co & Brazos Electric Power Coop, Inc.

Filed Date: 04/13/2007.

Accession Number: 20070418-0005

Comment Date: 5 p.m. Eastern Time on Friday, May 04, 2007.

Docket Numbers: ER07-751-000

Applicants: Lea Power Partners, LLC.

Description: Lea Power Partners, LLC submits an application for order accepting market-based rate tariff, granting authorization and blanket authority & waiving certain requirements.

Filed Date: 04/13/2007.

Accession Number: 20070418-0006

Comment Date: 5 p.m. Eastern Time on Friday, May 04, 2007.

Docket Numbers: ER07-752-000

Applicants: Westar Energy, Inc.

Description: Westar Energy, Inc submits a supplemental generation agreement with City of Burlingame dated as of 4/11/07.

Filed Date: 04/16/2007.

Accession Number: 20070418-0009

Comment Date: 5 p.m. Eastern Time on Monday, May 07, 2007.

Docket Numbers: ER07-753-000

Applicants: Westar Energy, Inc.

Description: Westar Energy, Inc submits a supplemental generation agreement with City of Herington dated as of 4/12/07.

Filed Date: 04/16/2007.

Accession Number: 20070418-0010

Comment Date: 5 p.m. Eastern Time on Monday, May 07, 2007.

Docket Numbers: ER07-754-000

Applicants: Westar Energy, Inc.

Description: Westar Energy, Inc submits supplemental generation agreement with City of Horton dated as of 4/9/07.

Filed Date: 04/16/2007.

Accession Number: 20070418-0011

Comment Date: 5 p.m. Eastern Time on Monday, May 07, 2007.

Docket Numbers: ER07-755-000

Applicants: Westar Energy, Inc.

Description: Westar Energy Inc submits a Supplemental Generation Agreement under FERC Electric Tariff Volume 14 with Osage City dated as of 4/10/07.

Filed Date: 04/16/2007.

Accession Number: 20070418-0013

Comment Date: 5 p.m. Eastern Time on Monday, May 07, 2007.

Docket Numbers: ER07-756-000

Applicants: Westar Energy, Inc.

Description: Westar Energy Inc submits a Supplemental Generation Agreement under FERC Electric Tariff Volume 15 with the City of Wamego, dated as of 4/12/07.

Filed Date: 04/16/2007.

Accession Number: 20070418-0012

Comment Date: 5 p.m. Eastern Time on Monday, May 07, 2007.

Any person desiring to intervene or to protest in any of the above proceedings must file in accordance with Rules 211 and 214 of the Commission's Rules of Practice and Procedure (18 CFR 385.211 and 385.214) on or before 5 p.m. Eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other than the Applicant.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St. NE., Washington, DC 20426.

The filings in the above proceedings are accessible in the Commission's eLibrary system by clicking on the appropriate link in the above list. They are also available for review in the Commission's Public Reference Room in Washington, DC. There is an eSubscription link on the Web site that enables subscribers to receive e-mail notification when a document is added to a subscribed dockets(s). For assistance with any FERC Online service, please e-mail FERCOnlineSupport@ferc.gov. or call (866) 208-3676 (toll free). For TTY, call (202) 502-8659.

Kimberly D. Bose,
Secretary.

[FR Doc. E7-7795 Filed 4-24-07; 8:45 am]

BILLING CODE 6717-01-P